DEPARTMENT OF EDUCATION

Notice of Proposed Information Collection Requests; Office of Special Education and Rehabilitative Services; Needs Assessment, Workplan, and Evaluation Guide for the Technical Assistance and Continuing Education Program

SUMMARY: Technical Assistance and Continuing Education (TACE) Centers are required to conduct needs assessment of state vocational rehabilitation agencies and their partners in their regions, create workplans to address the needs they identify, and evaluate the technical assistance and continuing education provided to address those needs. This guide establishes the requirements for the information to be reported about those activities.

DATES: Interested persons are invited to submit comments on or before September 24, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04891. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Needs Assessment, Workplan, and Evaluation Guide for the Technical Assistance and Continuing Education Program.

OMB Control Number: 1820-0690.

Type of Review: Revision.

Total Estimated Number of Annual Responses: 10.

Total Estimated Number of Annual Burden Hours: 817.

Abstract: The Office of Special Education and Rehabilitative Services within the U.S. Department of Education funded ten regional TACE Centers between September and December 2008 that currently and will continue to provide technical assistance and continuing education to state vocational rehabilitation (VR) agencies that provide VR and independent living services to individuals with disabilities under the Rehabilitation Act of 1973, as amended and organizations that support state VR agencies (called partners).

Dated: July 18, 2012.
Darrin A. King,
Director, Information Collection Clearance Division, Privacy, Information and Records Management Services, Office of Management.

[FR Doc. 2012-18020 Filed 7-23-12; 8:45 am]

BILLING CODE 4000-01-P